DEPARTMENT OF THE TREASURY

Office of Thrift Supervision

General Reporting and Recordkeeping by Savings Associations and Savings and Loan Holding Companies

AGENCY: Office of Thrift Supervision (OTS), Treasury.

ACTION: Notice and request for comment.

SUMMARY: The proposed information collection request (ICR) described below has been submitted to the Office of Management and Budget (OMB) for review and approval, as required by the Paperwork Reduction Act of 1995, 44 U.S.C. 3507. OTS is soliciting public comments on the proposal.

DATES: Submit written comments on or before July 1, 2011. A copy of this ICR, with applicable supporting documentation, can be obtained from RegInfo.gov at http://www.reginfo.gov/public/do/PRAMain.

ADDRESSES: Send comments, referring to the collection by title of the proposal or by OMB approval number, to OMB and OTS at these addresses: Office of Information and Regulatory Affairs, Attention: Desk Officer for OTS, U.S. Office of Management and Budget, 725 17th Street, NW., Room 10235, Washington, DC 20503, or by fax to (202) 393-6974; and Information Collection Comments, Chief Counsel's Office, Office of Thrift Supervision, 1700 G Street, NW., Washington, DC 20552, by fax to (202) 906-6518, or by e-mail to infocollection.comments@ots.treas.gov. OTS will post comments and the related index on the OTS Internet Site at http://www.ots.treas.gov. In addition, interested persons may inspect comments at the Public Reading Room, 1700 G Street, NW., Washington, DC 20552 by appointment. To make an appointment, call (202) 906-5922, send an e-mail to public.info@ots.treas.gov, or send a facsimile transmission to (202) 906-7755.

FOR FURTHER INFORMATION CONTACT: For further information or to obtain a copy of the submission to OMB, please contact Ira L. Mills at, ira.mills@ots.treas.gov, or on (202) 906-6531, or facsimile number (202) 906-6518, Regulations and Legislation Division, Chief Counsel's Office, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Title of Proposal: General Reporting and Recordkeeping by Savings Associations and Savings and Loan Holding Companies.

OMB Number: 1550-0011.

Form Number: N/A.

Description: This information collection relates to reports and records required by the following regulations: 12 CFR 552.11 (books and records, federal stock associations), 12 CFR 545.96(c) (agency business records, Federal stock associations), 12 CFR 544.8 (communications between members of a Federal mutual savings association), 12 CFR 562.1 (regulatory reporting requirements, each savings association and its affiliates), 12 CFR 563.1 (chartering documents, each savings association), 12 CFR 563.47(e) (pension plans, each savings association or service corporation), 12 CFR 572.6(b) (standard flood hazard determination form, each savings association), 12 CFR 562.4 (audit of savings association, savings and loan holding company, or affiliate), 12 CFR 563.76(c) (offers and sales of securities of a savings association or its affiliates in any office of the savings association), 12 CFR 584.1(f) (books and records of each savings and loan holding company), 12 CFR part 226 (Regulation Z, truth in lending), 12 CFR part 202 (Regulation B, Equal Credit Opportunity Act), 12 CFR part 205 (Regulation E, electronic fund transfers), and 12 CFR part 213 (Regulation M, consumer leasing).

Savings associations use the reports and records that the regulations require for internal management control purposes and examiners use them to determine whether savings associations are being operated safely, soundly, and in compliance with regulations. An absence of the reporting and record keeping requirements would not allow for prudent internal controls or for examiners to determine the accurate performance and condition of savings associations. Savings associations use the reports and records that the regulations require for internal management control purposes and examiners use them to determine whether savings associations are being operated safely, soundly, and in compliance with regulations. An absence of the reporting and record keeping requirements would not allow for prudent internal controls or for examiners to determine the accurate performance and condition of savings associations. Specifically, OTS examiners use the reports and record keeping requirements to determine whether the savings associations are being operated safely, soundly, and in compliance with regulations.

Type of Review: Extension of a currently approved collection.

Affected Public: Business or other for-profit.

Estimated Number of Respondents: 741.

Estimated Frequency of Response: On occasion and annually.

Estimated Total Burden: 3,623,349 hours.

Dated: May 25, 2011.
Ira L. Mills,
Paperwork Clearance Officer, Office of Chief Counsel, Office of Thrift Supervision.

[FR Doc. 2011-13398 Filed 5-31-11; 8:45 am]

BILLING CODE 6720-01-P